NATIONAL CREDIT UNION ADMINISTRATION

Sunshine Act Meeting

TIME AND DATE: 10 a.m., Thursday, February 15, 2007.

PLACE: Board Room, 7th Floor, Room 7047, 1775 Duke Street, Alexandria, VA 22314-3428.

STATUS: Open.

MATTERS TO BE CONSIDERED:

1. Quarterly Insurance Fund Report.

2. Report to Congress on the Study of Possible Changes to the Deposit Insurance System.

3. Appeal from Delaware Federal Credit of the Regional Director's Denial of Conversion from a Multiple Common Bond to a Community Charter.

4. Final Rule: Part 701 of NCUA's Rules and Regulations, General Lending Maturity Limit and Other Financial Services.

FOR FURTHER INFORMATION CONTACT: Mary Rupp, Secretary of the Board, Telephone: 703-518-6304.

Mary Rupp,
Secretary of the Board.

[FR Doc. 07-653 Filed 2-8-07; 4:20 pm]

BILLING CODE 7535-01-M